ENVIRONMENTAL PROTECTION AGENCY

[ER-FRL-8597-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated July 17, 2009 (74 FR 34754).

Draft EISs

EIS No. 20090208, ERP No. D-FHW-F40449-IL, Illinois 336 Corridor Project (Federal Aid Primary Route 315), Proposed Macomb Bypass in McDonough County, to I-474 west of Peoria in Peoria County, Funding, McDonough, Fulton and Peoria Counties, IL

Summary: EPA expressed environmental concerns about wetland, floodplain, air quality, and upland forest impacts. EPA also requested additional information on traffic levels. Rating EC2.

EIS No. 20090237, ERP No. D-UMC-E11070-NC, U.S. Marine Corps Grow the Force at MCB Camp Lejeune, MCAS New River, and MCAS Cherry Point, To Provide the Infrastructure To Support the Permanent Increases at these three Installations, U.S. Army Corps Section 404 and 10 Permits, City of Jacksonville, NC

Summary: EPA expressed environmental concerns about aquatic habitat, wetland, and water quality impacts. EPA recommended that the USMC consider a hybrid alternative to minimize impacts to wetlands and other jurisdictional waters. Rating EC2.

EIS No. 20090239, ERP No. D-AFS-L65574-OR, Big Summit Allotment Management Plan, Proposes to Reauthorize Cattle Term Grazing Permits, Construct Range Improvements, and Restore Riparian Vegetation on Five Allotments, Lookout Mountain Ranger District, Ochoco National Forest, Crook County, OR

Summary: EPA expressed environmental concerns about impacts to water quality within creeks that are already on the Oregon State's 303(d) list and subsequent impacts to aquatic resources. Rating EC2.

EIS No. 20090242, ERP No. D-IBR-K39118-CA, Delta-Mendota Canal/California Aqueduct Intertie Project, Construction and Operation of a Pumping Plant and Pipeline Connection, San Luis Delta-Mendota Water Authority Project, Central Valley Project, Alameda and San Joaquin Counties, CA

Summary: EPA expressed environmental concerns about water supply reliability and the ability to meet water delivery targets. EPA recommended the FEIS describe efforts to better align contract obligations with existing and future water supplies; and explore reduced inflow and export scenarios. Rating EC2.

EIS No. 20090252, ERP No. D-NPS-D65041-DC, White-Tailed Deer Management Plan, To Develop a White-Tailed Deer Management Plan that Supports Long-Term Protection, Preservation and Restoration of Native Vegetation and other Natural and Cultural Resources in Rock Creek Park, Washington, DC

Summary: EPA does not object to the proposed project, but recommends that the project team continue to work with other agencies regarding deer management issues. Rating LO.

Final EISs

EIS No. 20090258, ERP No. F-FRC-E05104-00, Catawba-Wateree Hydroelectric Project (FERC No. 2232), Application for Hydroelectric License, Catawba and Wateree Rivers in Burke, McDowell, Caldwell, Catawba, Alexander, Iredell, Mecklenburg, Lincoln and Gaston Counties, NC and York, Lancaster, Chester, Fairfield and Kershaw Counties, SC

Summary: EPA continues to have environmental concerns about impacts to aquatic species in the Catawba River below the Bridgewater development.

EIS No. 20090260, ERP No. F-COE-G39049-TX, Calhoun Port Authority's, Proposed Matagorda Ship Channel Improvement Project to Widen and Deepen Berthing Facilities, U.S. Army COE Section 10 and 404 Permits, Calhoun and Matagorda Counties, TX

Summary: No formal comment letter was sent to the preparing agency.

EIS No. 20090282, ERP No. F-FRC-D05126-VA, Smith Mountain Pumped Storage Project (FERC No. 2210-169). Application for Hydropower License to continue Operating the 636-megawatt Pumped Storage Project, Roanoke River, Smith Mountain Pumped Storage Project (FERC No. 2210-169). Application for Hydropower License to continue Operating the 636-megawatt Pumped Storage Project, Roanoke River, Bedford, Campbell, Franklin, and Pittsylvania Counties, VA

Summary: EPA expressed environmental concerns about water temperature, aquatic life and wetland impacts. EPA requested additional information on avoidance, minimization, and mitigation measures for the above impacts.

EIS No. 20090293, ERP No. F-NPS-D61062-PA, White-Tailed Deer Management Plan, Development of a Deer Management Strategy that Supports Protection, Preservation, and Restoration of Native Vegetation, Implementation, Valley Forge National Historical Park, Chester and Montgomery Counties, PA

Summary: EPA does not object to the proposed project.

EIS No. 20090261, ERP No. FS-GSA-D81027-MD, U.S. Food and Drug Administration (FDA) Headquarters Consolidation, Master Plan Update, Federal Research Center at White Oak, Silver Spring, Montgomery County, MD

Summary: EPA's previous concerns have been resolved; therefore, EPA does not object to the proposed action.

Dated: September 8, 2009.
Kenneth Mittelholtz,
Deputy Director, NEPA Compliance Division, Office of Federal Activities.

[FR Doc. E9-21943 Filed 9-10-09; 8:45 am]

BILLING CODE 6560-50-P